NUCLEAR REGULATORY COMMISSION

10 CFR Parts 1, 2, 50, 51, 52, 54, 60, 70, 73, 76, and 110

RIN 3150-AG49

Changes to Adjudicatory Process

AGENCY: Nuclear Regulatory Commission.

ACTION: Proposed rule: Extension of comment period.

SUMMARY: On April 16, 2001 (66 FR 19610), the Nuclear Regulatory Commission (NRC) published for public comment a proposed rule amending its rules of practice to make the NRC's hearing process more effective and efficient. Jonathan M. Block and the Nuclear Information and Resource Service (NIRS) requested a 90 and 120 day extension, respectively, to the public comment period. Their requests were based on the fact that the transcripts of a public meeting on NRC Hearing Processes which was held on October 26-27, 1999, had not been placed in the NRC Public Document Room (PDR) as was indicated in the April 16, 2001 Federal Register notice for the proposed rule, nor otherwise made available for electronic downloading on the NRC Web page or through ADAMS. The Commission placed the transcripts in the PDR on April 26, 2001, and subsequently placed the transcripts on the NRC's Web page (http://www.nrc.gov/NRC/PUBLIC/meettrans.html) and in ADAMS (Accession Nos. ML011160507, ML011160525). In view of the 10-day delay in placing the transcripts in the PDR and in the interest of obtaining public comment from the broadest range of stakeholders, the comment period on the proposed rule is being extended for an additional 60 days from the original July 16, 2001 deadline to September 14, 2001.

DATES: The comment period has been extended and now expires on September 14, 2001. Comments received after this date will be considered if it is practical to do so, but the Commission is able to ensure consideration only for comments received before this date.

ADDRESSES: Mail written comments to: Secretary, U.S. Nuclear Regulatory Commission, Washington, D.C. 20555-0001. ATTN: Rulemakings and Adjudications Staff.

Hand delivered comments should also be addressed to the Secretary, U.S. Nuclear Regulatory Commission, and delivered to: 11555 Rockville Pike, Rockville, MD, between 7:30 am and 4:15 pm Federal workdays.

You may also provide comments via the NRC's interactive rulemaking website (http://ruleforum.llnl). This site also provides the availability to upload comments as files (any format), if your web browser supports that function. For information about the interactive rulemaking site, contact Ms. Carol Gallagher, (301) 415-5905; e-mail CAG@nrc.gov.

Certain documents relating to this rulemaking, including comments received, may be examined at the NRC Public Document Room, 11555 Rockville Pike, Room O1-F21, Rockville, MD. The same documents may also be viewed and downloaded electronically via the rulemaking website, http://ruleforum.llnl.gov. Documents created or received at the NRC after November 1, 1999 are also available electronically at the NRC's Public Electronic Reading Room on the Internet at http://www.nrc.gov/NRC/ADAMS/index.html. From this site, the public can gain entry into the NRC's Agencywide Document Access and Management System (ADAMS), which provides text and image files of NRC's public documents. For more information, contact the NRC Public Document Room (PDR) Reference staff at 1-800-397-4209, 301-415-4737 or by email to pdr@nrc.gov.

FOR FURTHER INFORMATION CONTACT: Geary S. Mizuno, Office of the General Counsel, U.S. Nuclear Regulatory Commission, Washington, DC 20555-0001, telephone (301) 415-1639, e-mail GSM@nrc.gov.

Dated at Rockville, Maryland, this 10th day of May, 2001.
For the Nuclear Regulatory Commission.
Annette L. Vietti-Cook,
Secretary of the Commission.

[FR Doc. 01-12338 Filed 5-15-01; 8:45 am]

BILLING CODE 7590-01-P